DEPARTMENT OF AGRICULTURE

Forest Service

Willamette Provincial Advisory Committee (PAC)

AGENCY: Forest Service, USDA.

ACTION: Action of Meeting.

SUMMARY: The Willamette Province Advisory Committee (PAC) will meet on Thursday, February 17, 2000. The meeting is scheduled to begin at 9:00 a.m., and will conclude at approximately 3:00 p.m. The meeting will be held at the Salem Office of the Bureau of Land Management, 1717 Fabry Road SE, Salem, Oregon, (503) 375-5646. The tentative agenda includes: (1) Presentation of recommendations by Waldo Basin Subcommittee, (2) Presentation of recommendations on Survey and Manage Draft EIS by Subcommittee, and (3) Roundtable information sharing by PAC members and federal agency representatives including status reports from PAC subcommittees. The Public Forum is tentatively scheduled to begin at 11:30 a.m. Time allotted for individual presentations will be limited to 3-4 minutes. Written comments are encouraged, particularly if the material cannot be presented within the time limits for the Public Forum. Written comments may be submitted prior to the December 6 meeting by sending them to Designated Federal Official Neal Forrester at the address given below.

FOR FURTHER INFORMATION CONTACT: For more information regarding this meeting, contact Designated Federal Official Neal Forrester; Willamette National Forest; 211 East Seventh Avenue; Eugene, Oregon 97401; (541) 465-6924.

Dated: January 25, 2000.
Richard L. Sawaya,
Acting Forest Supervisor.

[FR Doc. 00-2069 Filed 1-31-00; 8:45 am]

BILLING CODE 3410-11-M